FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction No. | Acquiring person | Acquired person | Acquired entities
Transactions Granted Early Termination—12/10/2001
20020130 | Emerson Electric Co | MKS Instruments, Inc | MKS instruments, Inc.
20020131 | MKS Instruments, Inc | Emerson Electric Co | ENI Technology, Inc.
20020137 | Kerr-McGee Corporation | Kinder Morgan, Inc | Kinder Morgan Power Company.
20020141 | Enbridge Inc | Williams Companies, Inc | Goebel Gathering Company, L.L.C. Transcontinental Gas Pipe Line Corporation. WFS Gathering Company, L.L.C., WFS-Liquids Company.
20020144 | Kaneb Pipe Line Partners, LP | Statia Terminals Group N.V | Statia Technology, Inc., Statia Marine, Inc. Statia Terminals International N.V.
20020178 | Fortress Investment Fund LLC | AMRESCO, INC. (Debtor-in-Possession) | AMRESCO Commercial Finance, Inc. AMRESCO Independence Funding, Inc.
20020181 | Motorola, Inc | Vincent R. Borelli | Synchronous, Inc.
20020183 | General Motors Corporation | Isuzu Motors Limited | IMAC Funding Corporation I.
20020193 | Voest-Alpine AG | Polynorm N.V | Polynorm N.V.
20020198 | Nextel Communications, Inc | Chadmoore Wireless Group, Inc | Chadmoore Wireless Group, Inc.
20020203 | Health Management Associates, Inc | Clarent Hospital Corporation | Lancaster Hospital Corporation.
|  |  | Paracelsus Fentress County Medical Center, Inc.
|  |  | Paracelsus Mesquite Hospital, Inc.
|  |  | Paracelsus Santa Rosa Medical Center, Inc.
Transactions Granted Early Termination—12/11/2001
20020154 | GS Capital Partners 2000, L.P | Global Crossing Ltd | IPC Information Systems, Inc.
20020156 | GS Capital Partners 2000, L.P | NEWCO (a joint venture) | NEWCO.
20020167 | LaQuinta Corporation | LaQuinta Properties, Inc | LaQuinta Properties, Inc.
20020192 | CAE Inc | General Electric Company | SimuFlite Training International, Inc.
20020199 | ConAgra Foods, Inc | Nestle' S.A | Nestle USA, Inc.
20020205 | AutoNation, Inc | Richard B. Cogswell, Jr | Fox Valley Imports, Inc. Laurel Audi, LLC.
|  |  | Laurel Automotive Group of Tinley Park, LLC. Laurel Motors, Inc.
Transactions Granted Early Termination—12/13/2001
20020170 | AMETEK, Inc | PerkinElmer, Inc | PerkinElmer Instruments, Inc.
20020207 | Immunex Corporation | American Home Products Corporation | Greenwich Holdings Inc. ,
Transactions Granted Early Termination—12/14/2001
20012216 | International Game Technology | Anchor Gaming | Anchor Gaming.
20020169 | Progress Energy, Inc | Powergen plc | Powergen plc.
20020194 | Nortrax, Inc | Nortrax Inc | Nortrax II, Inc.
20020195 | Nortrax Inc | Nortrax II, Inc | Nortrax Inc.
20020208 | Ford Motor Company | Ford Motor Company | FRN of Greater Salt Lake City, LLC.
20020210 | Mohawk Industries, Inc | Dal-Tile International Inc | Dal-Tile International Inc.
20020211 | Atlantic Equity Partners III, L.P | Ranpak Corp | Ranpak Corp.
Transactions Granted Early Termination—12/17/2001
20020177 | AOL Time Warner Inc | WGBH Educational Foundation | WGBH Educational Foundation.
20020212 | CRH plc | Nuckolls Concrete Services, Inc | Nuckolls Concrete Services, Inc.
20020215 | Mellon Financial Corporation | PriceWaterhouseCoopers LLP | Unifi Network LLC.
20020219 | Cal Dive International, Inc | Canyon Offshore, Inc | Canyon Offshore, Inc.
20020220 | CRH plc | Cemex, S.A. de C.V | Cemex, Inc.
20020222 | Tyco International Ltd | Wellspring Capital Partners II, L.P | Paragon Trade Brands, Inc.
20020232 | National Equipment Services, Inc | Brambles Industries Limited | Brambles Equipment Services, Inc. Brambles Equipment Services, Inc., (Canada) ,
Transactions Granted Early Termination—12/18/2001
20020172 | B & C Privatstiftung | Bayerische Hypo - und Vereinsbank AB | Peter Frank GmbH.
20020175 | Gencorp Inc | GenCorp Inc | Aerojet Fine Chemicals LLC.
20020201 | UNIPAC Service Corporation | EFS, Inc | EFS, Inc.
20020221 | Digimarc Corporation | Polaroid Corporation | Polaroid Corporation ID Systems, Inc.
20020223 | Limestone Electron Trust | El Paso Corporation | El Paso Golden Power, L.L.C.
20020230 | The PMI Group, Inc | Fairbanks Capital Holding Corp | Fairbanks Capital Holding Corp.
20020243 | National Dairy Holdings, LP | Suiza Foods Corporation | Suiza Foods Corporation.
Transactions Granted Early Termination—12/19/2001
20020165 | CHB Capital Partners II, LP | Law Companies Group, Inc | Law Companies Group, Inc.
20020188 | OSI Pharmaceuticals, Inc | Gilead Sciences, Inc | Gilead Sciences, Inc.
20020209 | President and Fellows of Harvard College | CCC Information Services Group, Inc | CCC Information Services Group, Inc. ,
Transactions Granted Early Termination—12/20/2001
20012438 | Smith Investment Company | Ocelot Oil Corp | State Industries, Inc.
20020217 | EdperPartners Limited | Lambert Bedard | Great Northern Paper, Inc.
20020218 | EdperPartners Limited | Joseph Kass | Great Northern Paper, Inc., a Delaware Corporation.
20020231 | Sandvik AB | Walter AG | Walter AG.
20020239 | Tyco International Ltd | FCC Equipment Financing, Inc | FCC Equipment Financing, Inc. ,
Transactions Granted Early Termination—12/21/2001
20012475 | Mr. Georg F. W. Schaeffler | FAG Kugelfischer Georg Schafer AG | FAG Kugelfischer Georg Schafer AG
20020062 | Reliant Energy, Incorporated | Orion Power Holdings, Inc | Orion Power Holdings, Inc.
20020107 | Neopost S.A. | Ascom Holding AG | Ascom Hasler Mailing Systems Inc.
20020189 | Newmont Mining Corporation | Normandy Mining Limited ACN 009 295 765 | Normandy Mining Limited ACN 009 295 765
20020224 | The Right Start, Inc | Royal Vendex KBB N.V. | F.A.O. Schwartz. Quality Fulfillment Services, Inc.
20020235 | NetBank, Inc | Resource Bancshares Mortgage Group, Inc | Resource Bancshares Mortgage Group, Inc.
20020237 | Tyco International Ltd | Code, Hennessy & Simmons, III, L.P | CIIT Holdings, Inc.
20020238 | El Paso Corporation | El Paso Corporation | Photon Investors, L.L.C.
20020240 | J.P. Morgan Chase & Co | III Associates | System & Services Technologies, Inc.
20020241 | Plexus Corp | MCMS, Inc | MCMS Customer Services, Inc. MCMS International, Inc.
20020244 | Three Cities Fund III, L.P | ABC-NACO Inc | ABC-NACO Inc.
20020246 | ABRY Partners IV. L.P | Monitronics International, Inc | Monitronics International, Inc.
20020249 | CDV Trust | Marks & Spencer p.l.c | Brooks Brothers, Inc.
20020250 | Stella Vermogensverwaltungs GmbH | Honewell International Inc | Honewell Commercial Vehicle Systems Company.
20020251 | JDS Uniphase Corporation | International Business Machines Corporation | International Business Machines Corporation.
20020253 | Cumulus Media Inc | Frank D. Osborn | Aurora Communications, LLC Aurora Management, Inc.
20020254 | Consumer Portfolio Services, Inc | MFN Financial Corporation | MFN Financial Corporation.
20020255 | Terex Corporation | Schaeff Holding GmbH & Co. KG | BHS Baumaschinen Handels. Fuchs-Bagger Gmbh& Co. KG. Fuchs-Bagger Verwaltungs GmbH. Karl Schaeff GmbH & Co.
|  |  | Nippon Schafu Kabuskiki Kaisha. Portatz Baumaschinen GmbH & Co. Potratz GmbH. Schaeff & Co. (UK).
|  |  | Schaeff Biegetechnik Besitz GmbH & Co. Schaeff Biegetechnik GmbH. Schaeff Ersatzteile-Service GmbH & Co. KG. Schaeff Ersatztiele.
|  |  | Schaeff France SARL. Schaeff Gesellschaft. Schaeff GmbH. Schaeff Grundbesitz GbR.
|  |  | Schaeff Holding GmbH & Co. KG. Schaeff Holding Verwaltungs-GmbH. Schaeff Komponenten Beteilligungs. Schaeff Komponenten GmbH & Co.
|  |  | Schaeff Limited. Schaeff Machinery (Shanghai) Co. Schaeff Service Limited.
20020259 | Nationwide Mutual Insurance Company | Provident Mutual Life Insurance Company of Philadelphia. | Provident Mutual Life Insurance Company of Philadelphia.

For Further Information Contact: Sandra M. Peay or Chandra L. Kennedy, Contact Representatives, Federal Trade Commission, Premerger Notification Officer, Bureau of Competition, Room 303, Washington, DC 20580, (202) 326-3100.

By Directions of the Commission.
Donald S. Clark,
Secretary.

[FR Doc. 02-1477 Filed 1-18-02; 8:45 am]

BILLING CODE 6750-01-M